DEPARTMENT OF THE INTERIOR

Bureau of Indian Affairs

Proposed Agency Information Collection Activities; Comment Request

AGENCY: Bureau of Indian Affairs, Bureau of Indian Education, Interior.

ACTION: Notice.

SUMMARY: This notice announces that the Information Collection Request for the Adult Education Annual Report Form, OMB # 1076-0120, requires renewal. The current Adult Education Annual Report Form, with no appreciable changes, will be submitted after the comment period to the Office of Management and Budget (OMB) for review, as required by the Paperwork Reduction Act of 1995, Public Law 104-13, 44 U.S.C. 350(c)(2)(A). The Department of the Interior is soliciting public comments on the renewal.

DATES: Written comments must be submitted on or before June 23, 2008.

ADDRESSES: Mail comments to Kevin Skenandore, Acting Director, Bureau of Indian Education, Department of the Interior, 1849 C St. NW., Mail Stop 3609-MIB, Washington, DC 20240, or hand deliver to room 3610 at the above address.

FOR FURTHER INFORMATION CONTACT: Keith Neves, Bureau of Indian Education, Department of the Interior, 1849 C Street, NW., MS-3609-MIB, Washington, DC 20240, 202-208-3601.

SUPPLEMENTARY INFORMATION:

I. Information Collection Abstract

The regulations under 25 CFR part 46, subpart A contain the program requirements that govern the Adult Education Program. The information collection is necessary to assess the need for adult education programs in accordance with 25 CFR 46.20, Program Requirements, and section 46.30, Records and Reporting Requirements. Information collected from the contractors will be used for administrative planning, setting long and short-term goals, and analyzing and monitoring the use of funds. This collection expires June 30, 2008.

Title of the Collection of Information: Adult Education Program Annual Report Form.

OMB Control Number: 1076-0120.

Type of Review: Renewal of a currently approved information collection.

Brief Description of the Collection of Information: The collection of information provides pertinent data concerning the adult education programs. Submission of this information is necessary to assess the need for adult education programs. The information is needed for the utilization and management of program resources to provide education opportunities for adult American Indians and Alaska Natives to complete high school requirements, and to gain new skills and knowledge for individual student self-enhancement. The Bureau of Indian Education and tribally controlled programs use the information collected with the annual report for fiscal accountability and appropriate direct services documentation. The results of the data are used for administrative planning.

Affected Entities: Tribal adult education administrators.

Estimated Number of Respondents: 70.

Proposed Frequency of Responses: Annually.

Estimated Time per Response: 4 hours.

Total Annual Burden Hours: 280 hours (reporting 4 hours per response x 70 respondents = 280 hours).

II. Request for Comments

The Department of the Interior invites comments on:

(a) Whether the collection of information is necessary for the proper performance of the functions of the agency, including whether the information will have practical utility;

(b) The accuracy of the agency's estimate of the burden (including the hours and costs) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, or disclose or provide information to or for a Federal agency. This includes the time needed to review instructions; to develop, acquire, install and utilize technology and systems for the purpose of collecting, validating, and verifying information, processing and maintaining information, and disclosing and providing information, to search data sources, to complete and review the collection of information; and to transmit or otherwise disclose the information.

It is our policy to make all comments available to the public for review at the location listed in the ADDRESSES section, room 3610, during the hours of 8 a.m. to 4:30 p.m., EST, Monday thru Friday except for legal holidays. If you wish to have your name and/or address withheld, you must state this prominently at the beginning of your comments. We will honor your request according to the requirements of the law. All comments from organizations or representatives will be available for review. We may withhold comments from review for other reasons.

Comments submitted in response to this notice will be summarized and/or included in the request for OMB approval of this information collection; they also will become a matter of public record.

An agency may not conduct or sponsor, and a person is not required to respond to a collection of information, unless it displays a currently valid OMB control number.

Dated: April 17, 2008.
Sanjeev “Sonny” Bhagowalia,
Chief Information Officer—Indian Affairs.

[FR Doc. E8-8763 Filed 4-22-08; 8:45 am]

BILLING CODE 4310-6W-P